DEPARTMENT OF DEFENSE

Department of the Army; Corps of Engineers

Cross Lake Water Supply Feasibility Study, Shreveport, LA

AGENCY: Department of the Army, U.S. Army Corps of Engineers, DOD.

ACTION: Notice of intent.

SUMMARY: The Vicksburg District Corps of Engineers, in conjunction with the City of Shreveport, the non-Federal sponsor, are undertaking studies to investigate the feasibility of water supply improvements for the City of Shreveport and Caddo Parish.

DATES: Initiate EIS, May 13, 2008.

ADDRESSES: Correspondence may be sent to Mr. Larry Marcy at U.S. Army Corps of Engineers, Vicksburg District, CEMVK-PP-PQ, 4155 Clay Street, Vicksburg, MS 39183-3435.

FOR FURTHER INFORMATION CONTACT: Mr. Larry Marcy at U.S. Army Corps of Engineers, Vicksburg District, phone (601) 631-5965, fax number (601) 631-5115, or E-mail at larry.e.marcy@usace.army.mil.

SUPPLEMENTARY INFORMATION: Proposed Action. A feasibility level study will identify and evaluate alternatives to increase water supply for the City of Shreveport and Caddo Parish. Water supply may include improvements to Cross Lake and/or improvements in adjacent streams, rivers, and water bodies.

Alternatives. Alternative sources of water will be identified to meet existing and future water supply needs and evaluated in cooperation with state and Federal agencies, local government, and the public.

Scoping. Scoping is the process for determining the range of the alternatives and significant issues to be addressed in the EIS. For this analysis, a letter will be sent to all parties believed to have an interest in the analysis, requesting their input on alternatives and issues to be evaluated. The letter will also notify interested parties of the public scoping meeting that will be held in the local area. A notice will be sent to the local news media. All interested parties are invited to comment at this time, and anyone interested in the study should request to be included on the mailing list.

A public scoping meeting will be held June 16, 2008, from 7 p.m. to 9 p.m. at the Louisiana State Exhibit Museum Auditorium, 3015 Greenwood Road, Shreveport, LA.

Significant Issues. The tentative list of resources and issues to be evaluated in the EIS includes aquatic resources, recreational and commercial fisheries, wildlife resources, water quality, air quality, threatened or endangered species, recreation resources, and cultural resources. Tentative socio economic items to be evaluated in the EIS include business and industrial activity, tax revenues, population, community and regional growth, transportation, housing, community cohesion, and navigation.

Environmental Consultation and Review. The U.S. Fish and Wildlife Service (FWS) will be asked to assist in the documentation of existing conditions, impact analysis of alternatives, and overall study review through the Fish and Wildlife Coordination Act consultation procedures. The FWS would provide a Fish and Wildlife Coordination Act report to be incorporated into the EIS. The draft EIS or a notice of availability will be distributed to all interested agencies, organizations, and individuals.

Estimated Date of Availability. The earliest that the draft EIS is expected to be available is March 31, 2010.

Douglas J. Kamien,
Chief, Planning, Programs, and Project Management Division.

[FR Doc. E8-10264 Filed 5-7-08; 8:45 am]

BILLING CODE 3710-PU-P